DEPARTMENT OF HEALTH AND HUMAN SERVICES

Centers for Disease Control and Prevention

[60Day-15-0821]

Proposed Data Collections Submitted for Public Comment and Recommendations

The Centers for Disease Control and Prevention (CDC), as part of its continuing effort to reduce public burden, invites the general public and other Federal agencies to take this opportunity to comment on proposed and/or continuing information collections, as required by the Paperwork Reduction Act of 1995. To request more information on the below proposed project or to obtain a copy of the information collection plan and instruments, call 404-639-7570 or send comments to Leroy A. Richardson, 1600 Clifton Road, MS-D74, Atlanta, GA 30333 or send an email to omb@cdc.gov.

Comments submitted in response to this notice will be summarized and/or included in the request for Office of Management and Budget (OMB) approval. Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. Written comments should be received within 60 days of this notice.

Proposed Project

Quarantine Station Illness Response Forms: Airline, Maritime, and Land/Border Crossing (OMB Control No. 0920-0821, expiration 08/31/2015)—Revision—National Center for Emerging and Zoonotic Infectious Diseases, Centers for Disease Control and Prevention (CDC).

Background and Brief Description

CDC is requesting a revision to a currently approved information collection, Quarantine Station Illness Response Forms: Airline, Maritime, and Land/Border Crossing. This revision seeks to incorporate the changes that resulted from activities undertaken during the response to Ebola. These changes include two major components, both of which have been given previous emergency clearance by OMB, with an expiration date of April 30, 2015. As a part of this revision, CDC is requesting the full three year approval and 12 months of burden for the following:

The incorporation of a two public health screening forms that are currently used to assess risk for Ebola in travelers coming to the United States from countries experiencing widespread transmission of the disease. These forms are the United States Traveler Health Declaration and a completely revised Ebola Risk Assessment For Travelers From Ebola Outbreak-Affected Countries form, each given approval from OMB under OMB Control No 0920-1031. The additional burden requested for the electronic and hard copies of the English, hard copy French, and hard copy Arabic versions of the health declaration, and the English and French hard copy versions of the risk assessment form, is 16,965 hours.

In this revision, CDC is maintaining the ability to use the Ebola Risk Assessment for Travelers from Outbreak-affected Countries form in the event that a traveler is identified as ill on a U.S.-bound flight prior to arrival. In the no material or non-substantive change to a currently approved collection granted by OMB on 9/18/2014, CDC requested 100 respondents and 5 hours of burden. Because the risk assessment form is more comprehensive, it requires more time for traveler to complete the assessment. CDC is requesting an additional 20 hours of burden for the purpose of assessing ill travelers, for a total of 25 hours of burden. No additional respondents are requested.

CDC is also requesting the incorporation of a telephonic, automated survey administered either through Interactive Voice Response (IVR) phone system which asks travelers if they have developed a fever or any other symptoms potentially indicative of Ebola exposure (OMB Control No 0920-1034). This system is used to assist states in actively monitoring those travelers from Ebola affected countries for 21 days after arrival. The additional burden requested for the use of the IVR system is 91,350 hours.

No revisions are requested to the Air Travel, Maritime Conveyance or Land Travel Illness and Death Investigation forms or burden associated with these information collections. The current burden associated with these forms is 314 hours.

This revision incorporates the burden estimates provided for the emergency information collection 0920-1031 and 0920-1034. The total additional burden requested for this revision is 133,110 respondents and 108,335 burden hours. The estimated total burden for OMB Control Number 0920-0821 is 136,968 respondents and 108,654 burden hours. There is no burden to respondents other than their time.

Estimated Annualized Burden Hours
Respondent | Form | Number of respondents | Number of responses per respondent | Average burden per response (in minutes) | Total burden hours
Traveler | Airline Travel Illness or Death Investigation Form | 1626 | 1 | 5/60 | 136
Traveler | Maritime Conveyance Illness or Death Investigation Form | 1873 | 1 | 5/60 | 156
Traveler | Land Travel Illness or Death Investigation Form | 259 | 1 | 5/60 | 22
Traveler | United States Travel Health Declaration (English: Hard Copy, fillable PDF, electronic portal) | 45,325 | 1 | 15/60 | 11,331
Traveler | United States Travel Health Declaration (French hard copy) | 19,625 | 1 | 15/60 | 4906
Traveler | United States Travel Health Declaration (Arabic hard copy) | 300 | 1 | 15/60 | 75
Traveler | Ebola Risk Assessment for Travelers from Outbreak-affected Countries (English hard copy) | 1815 | 1 | 15/60 | 454
Traveler | Ebola Risk Assessment for Travelers from Outbreak-affected Countries (French hard copy) | 783 | 1 | 15/60 | 196
Traveler | Ebola Risk Assessment for Travelers from Outbreak-affected Countries (Arabic hard copy) | 12 | 1 | 15/60 | 3
Traveler | Ebola Risk Assessment for Travelers from Outbreak-affected Countries (Ill traveler interview) | 100 | 1 | 15/60 | 25
Traveler | IVR Active Monitoring Survey (English: Recorded) | 45,625 | 21 | 4/60 | 63,875
Traveler | IVR Active Monitoring Survey (French: Recorded) | 19,625 | 21 | 4/60 | 27,475
Total |  | 136,968 |  |  | 108,654

Leroy A. Richardson
Chief, Information Collection Review Office, Office of Scientific Integrity, Office of the Associate Director for Science, Office of the Director, Centers for Disease Control and Prevention.

[FR Doc. 2014-28232 Filed 12-1-14; 8:45 am]

BILLING CODE 4163-18-P